DEPARTMENT OF STATE

[Public Notice 5818]

Announcement of Meetings of the International Telecommunication Advisory Committee

Summary: This notice announces meetings of the International Telecommunication Advisory Committee (ITAC) to prepare advice on U.S. positions for a meeting of the Organization of American States Inter American Telecommunication Commission (CITEL) Permanent Consultative Committee II (Radiocommunication) which will prepare for the International Telecommunication Union World Radiocommunication Conference (WRC07).

The ITAC will meet on June 5, 12, 19, and 26 from 10-noon EDT at various locations in Washington, DC to prepare for the meeting of CITEL PCC.II which will make final regional preparations for the ITU WRC07. The actual locations and other meeting particulars will be made available on the ITAC-R reflector or from the secretariat, <minardje@state.gov>. The meetings are open to the public.

Dated: May 17, 2007.
Cecily Holiday,
Foreign Affairs Officer EEB/CIP, Department of State.

[FR Doc. E7-10343 Filed 5-29-07; 8:45 am]

BILLING CODE 4710-07-P